DEPARTMENT OF THE INTERIOR

National Park Service

[NPS-WASO-NAGPRA-NPS0036098; PPWOCRADN0-PCU00RP14.R50000]

Notice of Inventory Completion: California State University, Chico, Chico, CA

AGENCY: National Park Service, Interior.

ACTION: Notice.

SUMMARY: In accordance with the Native American Graves Protection and Repatriation Act (NAGPRA), the California State University Chico (CSU Chico) has completed an inventory of human remains and associated funerary objects and has determined that there is a cultural affiliation between the human remains and associated funerary objects and Indian Tribes or Native Hawaiian organizations in this notice. The human remains and associated funerary objects were removed from Butte and Glenn Counties, CA.

DATES: Repatriation of the human remains and associated funerary objects in this notice may occur on or after July 31, 2023.

ADDRESSES: Dawn Rewolinski, California State University, Chico, 400 W 1st Street, Chico, CA 95929, telephone (530) 898-3090, email drewolinski@csuchico.edu.

SUPPLEMENTARY INFORMATION: This notice is published as part of the National Park Service's administrative responsibilities under NAGPRA. The determinations in this notice are the sole responsibility of CSU Chico. The National Park Service is not responsible for the determinations in this notice. Additional information on the determinations in this notice, including the results of consultation, can be found in the inventory or related records held by CSU Chico.

Description

CA-BUT-1

Human remains representing, at minimum, 58 individuals were removed from the Patrick site (CA-BUT-1) in Butte County, CA. This site was first recorded in 1947 by T. D. McCown, University of California, Berkeley, for the U.S. Archeological Survey. In 1965 and 1966, excavations at the Patrick site were led by Donald S. Miller, University of California, Los Angeles (UCLA), and Keith R. Johnson, CSU Chico. Between 1966 and 1969, the collection was at UCLA for storage and analysis. At an unknown point, some of the materials and records were moved to CSU Chico. The 874 associated funerary objects are 55 organics, two lots consisting of debitage, two projectile points, 518 fragments of shell, 25 samples of soil, 239 lots consisting of faunal remains, and 33 fragments of ochre.

Accession 4

Human remains representing, at minimum, eight individuals were removed from the Finch site (CA-BUT-12) in Butte County, CA. This site was first recorded by A. Pilling in 1949 and was rerecorded by Dorothy Hill in 1963. In the summer of 1963, Francis Riddell led a Chico State College (now CSU Chico) field class in excavations at the site, and in the spring of 1964, Professor Keith Johnson, accompanied by Riddell, led a second excavation at the site, again with a Chico State College field class. In the summer of 1967, Joseph Chartkoff (then at UCLA) led an excavation at the site (the 1967 collections are not under the control of CSU Chico). In the spring of 1983 and the spring of 1984, Professor Makoto Kowta led a CSU Chico field class in excavations at the site. The 12,302 associated funerary objects are 373 organics, 7,708 lots consisting of debitage, 272 modified stone fragments, 234 projectile points, 160 unmodified shells, 410 modified shell beads, five lots of ash, 196 samples of charcoal, one piece of petrified wood, 56 lots of soil, 2,479 unmodified faunal elements, 370 modified faunal elements, 23 clay fragments, 14 modified clay fragments, and one ochre fragment.

Accession 10

Human remains representing, at minimum, three individuals were removed from the Sycamore Canyon Rock shelter site (CA-BUT-473) in Butte County, CA. This site was first recorded by Keith Johnson and two Chico State College (now CSU Chico) students in 1964, and in 1965, it was excavated by a Chico State College field class led by Keith Johnson. The 251 associated funerary objects are five organics, 17 lots consisting of debitage, 48 modified stone fragments, 57 projectile points, 114 unmodified shell fragments, three modified shell beads, three unmodified faunal elements, and four modified faunal elements.

Accession 19

Human remains representing, at minimum, 66 individuals were removed from the Llano Seco site in Butte County, CA. This site was first recorded in 1965 by G. Yamamoto, and it was rerecorded by Dorothy Hill and Keith Johnson of Chico State College (now CSU Chico) in 1966. From 1966 to 1968, excavations were conducted at the site by Keith Johnson and the Chico State College field school. The 3,498 associated funerary objects are 190 organics, 1,387 lots consisting of debitage, 504 modified stone fragments, 192 projectile points, three unmodified shells, 439 modified shell fragments, two lots of ash, 96 samples of charcoal, one piece of petrified wood, five lots of soil, 525 unmodified faunal elements, 131 modified faunal elements, and 23 clay fragments.

Accession 21

Human remains representing, at minimum, two individuals were removed from the Rock Creek Levee Mound site in Butte, County, CA. This site was first recorded by Dorothy Hill of CSU Chico. She indicated that the site had been partially destroyed by levelling activities and the creation of a cut for a levee. Collections records suggest that cultural items and human remains were collected at that time and no further collection took place. The three associated funerary objects are modified stone fragments.

Accession 25

Human remains representing, at minimum, one individual were removed from the M&T Ranch site (CA-BUT-434) in Butte County, CA. This site was first recorded by Dorothy Hill of Chico State College (now CSU Chico) in 1962 after a burial was found eroding into the Sacramento River. Collections records indicate that the burial and affiliated artifacts were excavated by Dorothy Hill in 1967. The 283 associated funerary objects are 278 modified shell fragments and five modified faunal elements.

Accession 26

Human remains representing, at minimum, one individual were removed from the Chico Rancheria Cemetery site (CA-BUT-574) in Butte County, CA. This site is a historic Mechoopda cemetery that lies within the city of Chico. In 1967, three burials in cedar caskets were exposed when a septic tank was installed. Burials One and Two were heavily disturbed. Collections records indicate that only human remains and affiliated burial objects from Burial One were brought to CSU Chico, where they are currently housed. Some artifacts and human remains from these burials were removed by construction workers, and their current location is unknown. Burial Three was intact and the contents were reburied on site. The 1,667 associated funerary objects are 315 modified shells, 1,350 glass beads, one modified stone, and one coffin fragment.

Accession 32

Human remains representing, at minimum, 147 individuals were removed from the Wurlitzer Ranch site in Butte County, CA. This site was first recorded by Dorothy Hill in 1968, though it had been known to locals for many years. Chico State College field schools archeologically investigated the site from 1969 to 1971. The collection was formally donated to CSU Chico in 1981. The 4,201 associated funerary objects are five organics, 1,590 lots consisting of debitage, 1,660 modified stone fragments, 454 projectile points, six unmodified shell fragments, 76 modified shell fragments, three lots of ash, 19 samples of soil, 230 faunal elements, 76 modified faunal elements, 77 clay fragments, and five ochre fragments.

Accession 33

Human remains representing, at minimum, one individual were removed from the Whiskey Dog site (CA-BUT-300) in Butte County, CA. This site was first recorded in 1969 by CSU Chico under the direction of Chico State College faculty. The 70 associated funerary objects are seven lots consisting of debitage, 27 modified stone fragments, nine projectile points, 19 samples of charcoal, five modified faunal elements, two clay fragments, and one modified clay fragment.

Accessions 40-44

Human remains representing, at minimum, six individuals were removed from the Richardson Springs site (CA-BUT-7) in Butte County, CA. This site was first located and recorded in 1949 by A. R. Pilling and was rerecorded in 1971. In 1970, it was excavated by a joint Chico State College and Queens College, City University of New York field school. In 1973, Richardson Springs was listed on the National Register of Historic Places under the name Mud Creek Canyon. The 7,777 associated funerary objects are 89 lots of organics, 3,033 lots consisting of debitage, 1,254 modified stone fragments, 347 projectile points, 398 lots consisting of unmodified shell fragments, 163 modified shell fragments, one sample of ash, 443 samples of charcoal, 11 pieces of petrified wood, 132 samples of soil, 1,849 lots consisting of faunal elements, 42 modified faunal elements, 14 clay fragments, and one ochre fragment.

Accession 52

Human remains representing, at minimum, one individual were removed from the Wilson Landing Road site (CA-BUT-529) in Butte County, CA. This site was first identified by Dorothy Hill at an unknown date. In 1971, after reports of a burial removed by a worker discing the site in preparation for planting, it was recorded by Makato Kowta and M. Boyton, at which time cultural items and human remains were collected. The 22 associated funerary objects are four lots consisting of debitage, one oversized stone tool, and 17 modified stones.

Accession 55

Human remains representing, at minimum, 22 individuals were removed from the Ellsworth Whyler site (CA-GLE-101) in Glenn County, CA. This site was first recorded by Keith Johnson of CSU Chico in 1971. In the summer of 1972, it was excavated by a CSU Chico field class under the supervision of Keith Johnson. The 1,348 associated funerary objects are one organic, 160 lots consisting of debitage, 60 modified stone fragments, 54 projectile points, 14 unmodified shell fragments, six modified shell fragments, 23 ash samples, one soil sample, 926 faunal elements, 100 modified faunal elements, and three modified clay fragments.

Accession 68

Human remains representing, at minimum, six individuals were removed from Site CA-GLE-105 in Glenn County, CA. This site was originally recorded by Keith Johnson in 1973. Johnson noted that potentially 50% of the site had already eroded into the Sacramento River. In the Spring of 1973, Keith Johnson and the CSU Chico field class excavated portions of the site. In 1986, the site was determined to be adversely affected by a planned U.S. Army Corps of Engineers Riverbank Stabilization Project. Consequently, in 1987, the Army Corps of Engineers contracted CSU Chico archeologists to further excavate the site to determine its eligibility for the National Register of Historic Places. The 1987 excavations included removal of three burials. The 844 associated funerary objects are eight organics, 391 lots consisting of debitage, 25 modified stones, 12 projectile points, 34 fragments of shell, 63 samples of soil, five samples of charcoal, 293 faunal elements, three modified faunal elements, and 10 pieces of clay.

Accession 123

Human remains representing, at minimum, three individuals were removed from Site CA-BUT-563 in Butte County, CA. This site was excavated by CSU Chico-affiliated archeologists in the spring of 1977 and the collection has been housed at CSU Chico since that time. The 7,495 associated funerary objects are 15 organics, 5,086 lots consisting of debitage, 486 modified stone fragments, 16 projectile points, 308 fragments of shell, six fragments of modified shell, 21 samples of ash, 343 samples of charcoal, four pieces of petrified wood, 70 samples of soil, 1,133 faunal elements, two modified faunal elements, three pieces of clay, and two ochre fragments.

Accession 148

Human remains representing, at minimum, two individuals were removed from Site CA-GLE-19 in Glenn County, CA. This site was first recorded in 1972 while part of the site was eroding into the Sacramento River. In March of 1979, CSU Chico-affiliated archeologists collected human remains and artifacts from that portion of the site exposed by erosion, and between March and September of 1979, they conducted a complete excavation. All excavated materials have been housed at CSU Chico since their removal from the site. The 826 associated funerary objects are 151 lots consisting of debitage, 26 modified stone fragments, 21 modified shell fragments, three samples of charcoal, five pieces of petrified wood, 63 faunal elements, and 557 ochre fragments.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, historical, and expert opinion.

Determinations

Pursuant to NAGPRA and its implementing regulations, and after consultation with the appropriate Indian Tribes and Native Hawaiian organizations, CSU Chico has determined that:

• The human remains described in this notice represent the physical remains of 327 individuals of Native American ancestry.

• The 41,461 objects described in this notice are reasonably believed to have been placed with or near individual human remains at the time of death or later as part of the death rite or ceremony.

• There is a relationship of shared group identity that can be reasonably traced between the human remains and associated funerary objects described in this notice and the Mechoopda Indian Tribe of Chico Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 31, 2023. If competing requests for repatriation are received, CSU Chico must determine the most appropriate requestor prior to repatriation. Requests for joint repatriation of the human remains and associated funerary objects are considered a single request and not competing requests. CSU Chico is responsible for sending a copy of this notice to the Indian Tribe identified in this notice.

Authority: Native American Graves Protection and Repatriation Act, 25 U.S.C. 3003, and the implementing regulations, 43 CFR 10.9, 10.10, and 10.14.

Dated: June 21, 2023.
Melanie O'Brien,
Manager, National NAGPRA Program.

[FR Doc. 2023-13817 Filed 6-28-23; 8:45 am]

BILLING CODE 4312-52-P